DEPARTMENT OF STATE

[Public Notice 5488]

Meeting on Possible Mandate Expansion for the International Mobile Satellite Organization (IMSO)

The Department of State announces a meeting to hear public views on issues related to the possible expansion of the mandate of the International Mobile Satellite Organization (IMSO), to include new oversight and regulatory responsibilities that may affect U.S. and non-U.S. mobile satellite services providers. The IMSO is convening an Assembly of Parties meeting September 25-29, 2006, for the member governments to: (1) Consider and act on proposals to amend the intergovernmental IMSO Convention (which has treaty status among most member governments) to expand the IMSO's scope of authority; and (2) elect a new Director of the Organization. Presently, the IMSO's authority applies exclusively to Inmarsat plc. A proposal has been made to extend IMSO's oversight to include all mobile satellite service providers, specifically in the context of provision of capacity for the Global Maritime Distress and Safety System (GMDSS). Additionally, in the context of work that has been ongoing in the International Maritime Organization, the Parties will be asked to consider proposals to authorize IMSO to perform certain review and auditing functions for a new vessel “Long Range Identification and Tracking” system being developed for maritime security. Formal amendments to the Convention have been introduced by fifteen European countries so that “[t]he Organization may assume any other functions or duties [related to mobile satellite services], subject to the decision of the Assembly.” Prior to the Assembly meeting, the IMSO Advisory Committee will meet September 20-21, 2006, to consider, inter alia, a draft Public Services Agreement which satellite service providers would be required to sign before being allowed to provide services for the GMDSS. The Public Services Agreement would require the payment of new fees to the IMSO. Public views and advice are being sought well in advance of the IMSO Assembly and Advisory Committee meetings.

Background documentation may be found on the Department's Web site: http://www.state.gov/e/eb/cip/imso.

The Department of State's public meeting will take place on Wednesday, August 23, 2006 from 1:30 p.m. to 3:30 p.m. at the Department's Harry S. Truman headquarters building, 2201 C St., NW., Washington, DC. Please note that due to security considerations, parking in the vicinity of the building is extremely limited. Members of the public are encouraged to participate and join in discussions, subject to the discretion of the moderator. Persons wishing to make formal presentations should provide advance notice to the contact below. Time may be limited. Persons planning to attend this meeting should send the following data by fax to (202) 647-5957 or e-mail to maydc@state.gov not later than 72 hours before the meeting: (1) Name of the meeting, (2) name of participant, (3) organizational affiliation, (4) date of birth, (5) citizenship, and (6) either Social Security or Passport number. A valid government issued photo ID must be presented to gain entrance to the Department of State.

Dated: August 3, 2006.
Douglas May,
Director for Technology Policy, International Communications and Information Policy, Department of State.

[FR Doc. E6-13095 Filed 8-9-06; 8:45 am]

BILLING CODE 4710-07-P